DEPARTMENT OF COMMERCE

National Oceanic and Atmospheric Administration

Agency Information Collection Activities; Submission to the Office of Management and Budget (OMB) for Review and Approval; Comment Request; NOAA Marine Fisheries Advisory Committee Survey on Marine Mammal Deterrents

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on June 23, 2023 (88 FR 41081) during a 60-day comment period. This notice allows for an additional 30 days for public comments.

Agency: National Oceanic & Atmospheric Administration (NOAA), Commerce.

Title: NOAA Marine Fisheries Advisory Committee Survey on Marine Mammal Deterrents.

OMB Control Number: 0648-XXXX.

Form Number(s): None.

Type of Request: New Information Collection.

Number of Respondents: 15,000.

Average Hours per Response: 5 minutes.

Total Annual Burden Hours: 1,250.

Needs and Uses: This is a request for a new collection of information.

A recent summary of a series of marine mammal deterrent workshops by NOAA Fisheries states, “under a recent proposed rule, NOAA Fisheries developed guidelines for deterring marine mammals under its jurisdiction, and recommended specific measures for species listed under the Endangered Species Act (ESA). The guidelines focus on how to safely use deterrents to avoid injuring or killing marine mammals. However, evaluation of the efficacy of each deterrent was beyond the scope of the rulemaking process, and available data on deterrent effectiveness is lacking.” ¹

¹ (Raum-Suryan et al.) p. 1.

Consequently, the Protected Resources Subcommittee of the Marine Fisheries Advisory Committee (MAFAC) was asked to help NOAA Fisheries narrow down the scope for assessing the effectiveness of the marine mammal deterrents listed in the proposed guidelines and create a decision-making process to prioritize areas to begin characterizing the effectiveness. To achieve this, the Subcommittee plans to rank relative risk of expected losses from interactions with marine mammals by various user groups nationwide, which will identify where the biggest impacts of marine mammals are likely to be occurring. The information for the relative risk and expected loss analysis will be generated through a survey of five user groups (commercial fishermen, recreational fishermen, tribal fishermen (inclusive of tribal nations and other coastal indigenous populations), aquaculture operators, and waterfront property managers (e.g. harbormasters and harbor facility assistants)).

Affected Public: Individuals/Households, Private Sector, State, Local, or Tribal Government.

Frequency: One-time use.

Respondent's Obligation: Voluntary.

Legal Authority: The Secretary of Commerce approved the establishment of the Marine Fisheries Advisory Committee (MAFAC or Committee) on December 28, 1970. The Committee was initially chartered on February 17, 1971, and has been renewed periodically under the Federal Advisory Committee Act, as amended (FACA), 5 U.S.C., App. It has been determined the Committee's continuance is in the public interest in accordance with the duties and the laws imposed on the Department. The Committee advises the Secretary of Commerce (Secretary) on all living marine resource matters that are the responsibility of the Department of Commerce. Specifically, the Committee draws on the expertise of its members, its task forces, and other appropriate sources, such as the National Oceanic and Atmospheric Administration's (NOAA) National Marine Fisheries Service (NMFS), to evaluate and recommend priorities and needed changes in national program direction. Its objective is to ensure the Nation's living marine resource policies and programs meet the needs of commercial and recreational fishermen, aquaculture activities, and environmental, consumer, academic, tribal, governmental, and other national interests.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Department PRA Clearance Officer, Office of the Under Secretary for Economic Affairs, Commerce Department.

[FR Doc. 2023-22322 Filed 10-5-23; 8:45 am]

BILLING CODE 3510-22-P